SECURITIES AND EXCHANGE COMMISSION

Left Behind Games, Inc., File No. 500-1; Order of Suspension of Trading

September 25, 2013.

It appears to the Securities and Exchange Commission that there is a lack of current and accurate information concerning the securities of Left Behind Games, Inc. (“Left Behind”) because it has not filed a periodic report since it filed its Form 10-Q for the period ending September 30, 2011, filed on November 21, 2011.

The Commission is of the opinion that the public interest and the protection of investors require a suspension of trading in the securities of Left Behind. Therefore, it is ordered, pursuant to Section 12(k) of the Securities Exchange Act of 1934, that trading in the securities of Left Behind is suspended for the period from 9:30 a.m. EDT, September 25, 2013 through 11:59 p.m. EDT, on October 8, 2013.

By the Commission.
Jill M. Peterson,
Assistant Secretary.

[FR Doc. 2013-23728 Filed 9-25-13; 11:15 am]

BILLING CODE 8011-01-P